DEPARTMENT OF DEFENSE

Department of the Air Force

Notice of Intent To Prepare an Environmental Impact Statement for Beddown of Training F-35A Aircraft

AGENCY: Air Education and Training and Air National Guard, United States Air Force, Defense.

ACTION: Revised Notice of Intent.

SUMMARY: The United States Air Force published a Notice of Intent to prepare an EIS in the Federal Register (Vol. 74, No. 247, page 68597) on Dec 28, 2009. As stated in the previous Notice of Intent, the Air Force intended to conduct scoping meeting in the following cities: Truth or Consequences, NM, Socorro, NM, and Sun City, AZ; however, Scoping Meetings will no longer be conducted in these locations. Additional public scoping meetings will be held at Cloudcroft, NM, Boise, ID, City of Surprise/Sun Cities, AZ, and Tucson, AZ. In addition, exact meeting locations were not known at the time the Notice of Intent was published. This revised Notice of Intent has been prepared to notify the public of the changes in the cities in which the public scoping meetings will be held and to provide locations and dates for the meetings.

DATES: The Air Force intends to hold scoping meetings in the following communities: Holloman Air Force Base: Monday, January 25, 2010, at Lincoln County Manager's Building Commissioners Chambers, 300 Central Avenue Carrizozo, New Mexico; Tuesday, January 26, 2010, at Sgt. Willie Estrada Memorial Civic Center, 800 E. First Street, Alamogordo, New Mexico; Wednesday, January 27, 2010 at The Lodge Resort Pavilion Room, 601 Corona Place, Cloudcroft, New Mexico; Thursday, January 28, 2010 at Best Western Pine Springs Inn, 1420 W. Highway 70, Ruidoso Downs, New Mexico; Friday, January 29, 2010 at De Baca County Courthouse Annex, 248 East Avenue C, Fort Sumner, New Mexico; Boise Air Terminal Air Guard Station: Monday, February 8, 2010, at Marsing High School Commons, 301 W. Eighth Avenue, Marsing, Idaho; Tuesday, February 9, 2010, at Boise Senior Activities Center Dining Room, 690 Robbins Road, Boise, Idaho; Wednesday, February 10, 2010, at Meridian Middle School Foyer/Auditorium, 1507 W. Eighth Street, Meridian, Idaho; Thursday, February 11, 2010, at Best Western Vista Inn Rocky Mountain Conference Center, 2645 Airport Way, Boise, Idaho; Friday, February 12, 2010, at Rimrock Jr./Sr. High School Auditorium, 39678 State Highway 78, Bruneau, Idaho; Luke Air Force Base: Monday, February 22, 2010 at Gila Bend Unified School District, 308 N. Martin Avenue, Gila Bend, Arizona; Tuesday, February 23, 2010 at Pueblo El Mirage RV Resort RC Roberts Memorial Building, 11201 N. El Mirage Road, El Mirage, Arizona; Wednesday, February 24, 2010 at Communiversity @ Surprise, 15850 West Civic Center Plaza, City of Surprise/Sun Cities, Arizona; Thursday, February 25, 2010 at Wickenburg High School Media Center, 1090 S. Vulture Mine Road, Wickenburg, Arizona; Friday, February 26, 2010 at Wigwam Resort, 300 Wigwam Boulevard, Litchfield Park, Arizona; Tucson International Airport Air Guard Station: Monday, March 1, 2010, at Sunnyside High School Foyer/Auditorium, 1725 E. Bilby Road, Tucson, Arizona; Tuesday, March 2, 2010, at San Carlos High School Cafeteria, Milepost 270 Highway 70, San Carlos, Arizona; Wednesday, March 3, 2010, at Eastern Arizona College Gila/Galiuro Room, Activities Center, 1014 N. College Avenue, Thatcher, Arizona; Thursday, March 4, 2010, at Bisbee High School Cafeteria, 475 School Terrace Road, Bisbee, Arizona; Friday, March 5, 2010, at Roskruge Elementary School Auditorium 501 East Sixth Street, Tucson, Arizona. The scheduled dates, times, locations and addresses for the meetings will be published in local media a minimum of 15 days prior to the scoping meetings. All meetings will be held from 6 p.m. to 8 p.m.

Comments will be accepted at any time during the environmental impact analysis process. However, to ensure the Air Force has sufficient time to consider public input in the preparation of the Draft EIS, comments should be submitted to the address below by April 5, 2010.

FOR FURTHER INFORMATION CONTACT: Mr. David Martin, HQ AETC/A7CPP, 266 F Street West, Randolph AFB, TX 78150-4319, telephone 210/652-1961.

Bao-Anh Trinh,
Air Force Federal Register Liaison Officer.

[FR Doc. 2010-287 Filed 1-11-10; 8:45 am]

BILLING CODE 5001-05-P